DEPARTMENT OF THE TREASURY

Office of Foreign Assets Control

Additional Designation of Entities Pursuant to Executive Order 13382

AGENCY: Office of Foreign Assets Control, Treasury.

ACTION: Notice.

SUMMARY: The Treasury Department's Office of Foreign Assets Control (“OFAC”) is publishing the names of 10 newly-designated entities and 5 newly-designated individuals whose property and interests in property are blocked pursuant to Executive Order 13382 of June 28, 2005, “Blocking Property of Weapons of Mass Destruction Proliferators and Their Supporters.”

DATES: The designation by the Director of OFAC of the 10 entities and 5 individuals identified in this notice pursuant to Executive Order 13382 is effective on November 30, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/offices/enforcement/ofac) or via facsimile through a 24-hour fax-on demand service, tel.: (202) 622-0077.

Background:

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On November 30, 2010, the Director of OFAC, in consultation with the Departments of State, Justice, and other relevant agencies, designated 10 entities and 5 individuals whose property and interests in property are blocked pursuant to Executive Order 13382.

The list of additional designees is as follows:

Entities:

1. ASHTEAD SHIPPING COMPANY LIMITED, Manning House, 21 Bucks Road, Douglas IM1 3DA, Man, Isle of; c/o Islamic Republic of Iran Shipping Lines (IRISL), No. 37, Aseman Tower, Sayyade Shirazee Square, Pasdaran Avenue, PO Box 19395-1311, Tehran, Iran; Business Registration Document # 108116C (Man, Isle of); E-mail Address smd@irisl.net; Web site www.irisl.net; Telephone: 982120100488; Fax: 982120100486 [NPWMD]

2. BYFLEET SHIPPING COMPANY LIMITED, Manning House, 21 Bucks Road, Douglas IM1 3DA, Man, Isle of; c/o Islamic Republic of Iran Shipping Lines (IRISL), No. 37, Aseman Tower, Sayyade Shirazee Square, Pasdaran Avenue, PO Box 19395-1311, Tehran, Iran; Business Registration Document #118117C (Man, Isle of); E-mail Address smd@irisl.net; Website www.irisl.net; Telephone: 982120100488; Fax: 982120100486 [NPWMD]

3. COBHAM SHIPPING COMPANY LIMITED, Manning House, 21 Bucks Road, Douglas IM1 3DA, Man, Isle of; c/o Islamic Republic of Iran Shipping Lines (IRISL), No. 37, Aseman Tower, Sayyade Shirazee Square, Pasdaran Avenue, PO Box 19395-1311, Tehran, Iran; Business Registration Document #108118C (Man, Isle of); E-mail Address smd@irisl.net; Web site www.irisl.net; Telephone: 982120100488; Fax: 982120100486 [NPWMD]

4. DORKING SHIPPING COMPANY LIMITED, Manning House, 21 Bucks Road, Douglas IM1 3DA, Man, Isle of; c/o Islamic Republic of Iran Shipping Lines (IRISL), No. 37, Aseman Tower, Sayyade Shirazee Square, Pasdaran Avenue, PO Box 19395-1311, Tehran, Iran; Business Registration Document #108119C (Man, Isle of); E-mail Address smd@irisl.net; Website www.irisl.net; Telephone: 982120100488; Fax: 982120100486 [NPWMD]

5. EFFINGHAM SHIPPING COMPANY LIMITED, Manning House, 21 Bucks Road, Douglas IM1 3DA, Man, Isle of; c/o Islamic Republic of Iran Shipping Lines (IRISL), No. 37, Aseman Tower, Sayyade Shirazee Square, Pasdaran Avenue, PO Box 19395-1311, Tehran, Iran; Business Registration Document #108120C (Man, Isle of); E-mail Address smd@irisl.net; Web site www.irisl.net; Telephone: 982120100488; Fax: 982120100486 [NPWMD]

6. FARNHAM SHIPPING COMPANY LIMITED, Manning House, 21 Bucks Road, Douglas IM1 3DA, Man, Isle of; c/o Islamic Republic of Iran Shipping Lines (IRISL), No. 37, Aseman Tower, Sayyade Shirazee Square, Pasdaran Avenue, PO Box 19395-1311, Tehran, Iran; Business Registration Document #108146C (Man, Isle of); Email Address smd@irisl.net; Website www.irisl.net; Telephone: 982120100488; Fax: 982120100486 [NPWMD]

7. GOMSHALL SHIPPING COMPANY LIMITED, c/o Soroush Sarzamin Asatir (SSA) Ship Management Co, Shabnam Alley, Golriz St, Vafa Alley, Fajr St, Shahid Motahari Avenue, 1589675951, Tehran, Iran; Manning House, 21 Bucks Road, Douglas IM1 3DA, Man, Isle of; Business Registration Document #111998C (Man, Isle of); E-mail Address info@ssa-smc.net; Web site www.ssa-smc.net; Telephone: 982126100191; Fax: 982126100192 [NPWMD]

8. HORSHAM SHIPPING COMPANY LIMITED, c/o Soroush Sarzamin Asatir (SSA) Ship Management Co, Shabnam Alley, Golriz St, Vafa Alley, Fajr St, Shahid Motahari Avenue, 1589675951, Tehran, Iran; Manning House, 21 Bucks Road, Douglas IM1 3DA, Man, Isle of; Business Registration Document #111999C (Man, Isle of); E-mail Address info@ssa-smc.net; Web site www.ssa-smc.net; Telephone: 982126100191; Fax: 982126100192 [NPWMD]

9. PEARL ENERGY COMPANY LTD., Level 13(E) Main Office Tower, Jalan Merdeka, Financial Park Complex, Labuan, 87000, Malaysia; Telephone 6087541688; Fax: 6087453688 [NPWMD]

10. PEARL ENERGY SERVICES, SA, 15 Avenue de Montchoisi, Lausanne, 1006 VD, Switzerland; Telephone: 0216140614; Business Registration Document Number: CH-550.1.058.055-9 [NPWMD]

Individuals

1. AFZALI, ALI, c/o Bank Mellat, Tehran, Iran; DOB: 1 July 1967; Nationality: Iranian [NPWMD]

2. DAJMAR, Mohhammad Hossein (a.k.a. DAJMAR, Mohammad Hossein); DOB 19 Feb 1956; nationality Iran; Passport K13644698 (Iran) expires 16 May 2013 (individual) [NPWMD]

3. GOLPARVAR, Gholam Hossein (a.k.a. GOLPARVAR, Gholamhossein); DOB 23 Jan 1957; nationality Iran; Passport U14643027 (Iran) expires 11 Nov 2013 (individual) [NPWMD]

4. PAJAND, Mohammad Hadi, 73 Blair Court, Boundary Road, London NW8 6NT, United Kingdom; DOB 28 May 1950; nationality Iran (individual) [NPWMD]

5. ZADEH, Hassan Jalil (a.k.a. JALILZADEH, Hassan); DOB 26 Jan 1959; nationality Iran; Passport A1508382 (Iran) expires 24 Feb 2010 (individual) [NPWMD]

Dated: December 21, 2010.
Adam J. Szubin,
Director, Office of Foreign Assets Control.

[FR Doc. 2010-32604 Filed 12-27-10; 8:45 am]

BILLING CODE 4810-AL-P